DEPARTMENT OF LABOR

Office of the Secretary

Agency Information Collection Activities; Submission for OMB Review; Comment Request; Diesel-Powered Equipment in Underground Coal Mines

ACTION: Notice.

SUMMARY: The Department of Labor (DOL) is submitting the Mine Safety and Health Administration (MSHA) sponsored information collection request (ICR) titled, “Diesel-Powered Equipment in Underground Coal Mines,” to the Office of Management and Budget (OMB) for review and approval for continued use in accordance with the Paperwork Reduction Act (PRA) of 1995 (44 U.S.C. 3501 et seq.).

DATES: Submit comments on or before July 23, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-MSHA, Office of Management and Budget, Room 10235, New Executive Office Building, Washington, DC 20503, Telephone: 202-395-6929/Fax: 202-395-6881 (these are not toll-free numbers), email: OIRA_submission@omb.eop.gov.

FOR FURTHER INFORMATION CONTACT: Contact Michel Smyth by telephone at 202-693-4129 (this is not a toll-free number) or by email at DOL_PRA_PUBLIC@dol.gov.

SUPPLEMENTARY INFORMATION: The MSHA requires mine operators to provide important safety and health protections to underground coal miners who work on and around diesel-powered equipment. Engines powering diesel equipment are potential contributors to fires and explosion hazards in the confined environment of an underground coal mine where combustible coal dust and explosive methane gas are present. Diesel equipment operating in underground coal mines also can pose serious health risks to miners from exposure to diesel exhaust emissions, including diesel particulates, oxides of nitrogen, and carbon monoxide. Diesel exhaust is a lung carcinogen in animals.

This ICR relates to the maintenance and use of diesel equipment; tests and maintenance of fire suppression systems on both the equipment and at fueling stations; and exhaust gas sampling. The records are required to document essential testing and maintenance of diesel-powered equipment are conducted regularly by qualified persons; corrective actions are taken; and persons performing maintenance, repairs, examinations, and tests are trained and qualified to perform such tasks.

The safety requirements for diesel equipment include many proven features required in existing standards for electric-powered mobile equipment, such as cabs or canopies, methane monitors, brakes and lights. Sampling of diesel exhaust emissions is required to protect miners from overexposure to carbon monoxide and nitrogen dioxide contained in diesel exhaust.

The subject information collection requirements are found in regulations 30 CFR 75.1901(a), Diesel fuel requirements; 75.1911(j), Fire suppression systems for diesel-powered equipment and fuel transportation units; 75.1912(i), Fire suppression systems for permanent underground diesel fuel storage facilities; 75.1914(f)(1) and (2), (g)(5), and (h)(1) and (2), Maintenance of diesel-powered equipment; and 75.1915(b)(5), (c)(1), and (2), Training and qualification of persons working on diesel-powered equipment.

These information collections are subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The DOL obtains OMB approval for this information collection under Control Number 1219-0119. The current OMB approval is scheduled to expire on June 30, 2012; however, it should be noted that existing information collection requirements submitted to the OMB receive a month-to-month extension while they undergo review. For additional information, see the related notice published in the Federal Register on March 23, 2012 (77 FR 17099).

Interested parties are encouraged to send comments to the OMB, Office of Information and Regulatory Affairs at the address shown in the ADDRESSES section within 30 days of publication of this notice in the Federal Register. In order to help ensure appropriate consideration, comments should mention OMB Control Number 1219-0119. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-MSHA.

Title of Collection: Diesel-Powered Equipment in Underground Coal Mines.

OMB Control Number: 1219-0119.

Affected Public: Private Sector—Businesses or other for profits.

Total Estimated Number of Respondents: 223.

Total Estimated Number of Responses: 169,003.

Total Estimated Annual Burden Hours: 14,364.

Total Estimated Annual Other Costs Burden: $457,808.

Dated: June 18, 2012.
Michel Smyth,
Departmental Clearance Officer.

[FR Doc. 2012-15189 Filed 6-20-12; 8:45 a.m.]

BILLING CODE 4510-43-P